DEPARTMENT OF VETERANS AFFAIRS

[OMB Control No. 2900-New (VR&E Outcome)]

Agency Information Collection (VR&E Program National Outcome Follow-Up With Employment Based Rehabilitated Veterans Survey) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATE: Comments must be submitted on or before October 9, 2009.

ADDRESSES: Submit written comments on the collection of information through www.Regulations.gov or to VA's OMB Desk Officer, Office of Information and Regulatory Affairs, New Executive Office Building, Room 10235, Washington, DC 20503, (202) 395-7316. Please refer to “OMB Control No. 2900-New (VR&E Outcome)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (VR&E Outcome).”

SUPPLEMENTARY INFORMATION: Title: Proposed Information Collection (VR&E Program National Outcome Follow-Up With Employment Based Rehabilitated Veterans Survey).

OMB Control Number: 2900-New (VR&E Outcome).

Type of Review: New collection.

Abstract: The VR&E program provides services and assistance to enable Veterans with service-connected disability to achieve employment-based rehabilitated status. VA will use the National Outcome Follow-Up With Employment Based Rehabilitated Veterans survey to follow up with Veterans who were declared “Rehabilitated” by entering suitable employment after completing a VR&E vocational training program. The data collected will assist VA in analyzing the outcome of VR&E services provided to Veterans who achieved employment-based rehabilitated status.

An agency may not conduct or sponsor, and a person is not required to respond to a collection of information unless it displays a currently valid OMB control number. The Federal Register Notice with a 60-day comment period soliciting comments on this collection of information was published on June 12, 2009, at page 28106.

Affected Public: Individuals or households.

Estimated Annual Burden: 1,000 hours.

Estimated Average Burden per Respondent: 7.5 minutes.

Frequency of Response: On occasion.

Estimated Number of Respondents: 8,000.

Dated: September 2, 2009.
By direction of the Secretary.
Denise McLamb,
Program Analyst, Enterprise Records Service.

[FR Doc. E9-21568 Filed 9-8-09; 8:45 am]

BILLING CODE 8320-01-P